NATIONAL AERONAUTICS AND SPACE ADMINISTRATION

[Notice: 24-062]

NASA Advisory Council; Meeting

AGENCY: National Aeronautics and Space Administration.

ACTION: Notice of meeting.

SUMMARY: In accordance with the Federal Advisory Committee Act, the National Aeronautics and Space Administration (NASA) announces a meeting of the NASA Advisory Council (NAC).

DATES: Tuesday, October 1, 2024, 1 p.m.-5 p.m. central time; and Wednesday, October 2, 2024, 8:30 a.m.-1:30 p.m. central time.

ADDRESSES: Meeting will be virtual. See dial-in and Webex Webinar information below under SUPPLEMENTARY INFORMATION.

FOR FURTHER INFORMATION CONTACT: Ms. Marcia Guignard, NAC Administrative Officer, NASA Headquarters, Washington, DC 20546, marcia.guignard@nasa.gov or at 202-763-3457.

SUPPLEMENTARY INFORMATION: As noted above, this meeting is virtual and will take place telephonically and via a webinar. If dialing in via toll number, you must use a touch-tone phone to participate in this meeting. Any interested person may join via Webex Webinar on October 1st at https://nasaenterprise.webex.com/nasaenterprise/j.php?MTID=m097eabae15296a70ecd40a1c56c1ae9b, the webinar number is 2825 365 0502, and the webinar password is RAveP2iv@35 (72837248 when dialing from a phone or video system). The toll number to listen by phone is +1-415-527-5035 and the access code is 282 536 50502. Any interested person may join via Webex Webinar on October 2nd at https://nasaenterprise.webex.com/nasaenterprise/j.php?MTID=mfc4a15e035c6f3228112a3713474de2e, the webinar number is 2821 274 3942 and the webinar password is 3DGhVpKN4?8 (33448756 when dialing from a phone or video system). The toll number to listen by phone is +1-415-527-5035 and the access code is 282 127 43942.

The agenda for the meeting will include a discussion of recommendations and reports on the following NAC priority focus areas:

—Climate Change

—Commercial and Industry Partnerships

—Diversity, Equity, Inclusion and Accessibility

—International Collaboration

—Program Management and Acquisition

The agenda for the meeting will also include reports from the following NAC committees:

—Aeronautics Committee

—Human Exploration and Operations Committee

—Science Committee

—STEM Engagement Committee

—Technology, Innovation and Engineering Committee

It is imperative that the meeting be held on this date to accommodate the scheduling priorities of the key participants.

Jamie M. Krauk,
Advisory Committee Management Officer, National Aeronautics and Space Administration.

[FR Doc. 2024-20575 Filed 9-10-24; 8:45 am]

BILLING CODE 7510-13-P